INTERNATIONAL TRADE COMMISSION

[Investigation Nos. 701-TA-432 and 731-TA-1024-1028 (Review) and AA1921-188 (Third Review)]

Prestressed Concrete Steel Wire Strand From Brazil, India, Japan, Korea, Mexico, and Thailand

Determinations

On the basis of the record ¹ developed in the subject five-year reviews, the United States International Trade Commission (“Commission”) determines, pursuant to section 751(c) of the Tariff Act of 1930 (19 U.S.C. § 1675(c)), that revocation of the countervailing duty order on prestressed concrete steel wire strand (“PC strand”) from India and antidumping duty orders on PC strand from Brazil, India, Korea, Mexico, and Thailand, as well as the antidumping duty finding on PC strand from Japan, would be likely to lead to continuation or recurrence of material injury to an industry in the United States within a reasonably foreseeable time.

¹ The record is defined in sec. 207.2(f) of the Commission's Rules of Practice and Procedure (19 CFR 207.2(f)).

Background

The Commission instituted these reviews on December 1, 2008 (73 FR 72834) and determined on March 6, 2009 that it would conduct full reviews (74 FR 11967, March 20, 2009). Notice of the scheduling of the Commission's reviews and of a public hearing to be held in connection therewith was given by posting copies of the notice in the Office of the Secretary, U.S. International Trade Commission, Washington, DC, and by publishing the notice in the Federal Register on April 2, 2009 (74 FR 15000). The hearing was held in Washington, DC, on September 30, 2009, and all persons who requested the opportunity were permitted to appear in person or by counsel.

The Commission transmitted its determinations in these reviews to the Secretary of Commerce on November 25, 2009. The views of the Commission are contained in USITC Publication 4114 (November 2009), entitled Prestressed Concrete Steel Wire Strand from Brazil, India, Japan, Korea, Mexico, and Thailand: Investigation Nos. 701-TA-432 and 731-TA-1024-1028 (Review) and AA1921-188 (Third Review).

By order of the Commission.
Issued: November 25, 2009.
William R. Bishop,
Acting Secretary to the Commission.

[FR Doc. E9-28668 Filed 11-30-09; 8:45 am]

BILLING CODE P